DEPARTMENT OF DEFENSE

Office of the Secretary

[DOD-2007-HA-0118]

32 CFR Part 199

TRICARE, Formerly Known as the Civilian Health and Medical Program of the Uniformed Services (CHAMPUS); Coverage of Physician Assistant Services

AGENCY: Department of Defense.

ACTION: Administrative correction.

SUMMARY: This action corrects the reference to a re-designated paragraph within this part regarding the allowable charge for physician assistant services. This document is published to improve the accuracy of 32 CFR part 199.

DATES: Effective Dates: November 14, 2007.

ADDRESSES: TRICARE Management Activity, 16401 East Centretech Parkway, Aurora, CO 80011.

FOR FURTHER INFORMATION CONTACT: Michael Kottyan, Office of Medical Benefits and Reimbursement Systems, TRICARE Management Activity, telephone (303) 676-3520.

SUPPLEMENTARY INFORMATION: The final rule published in the Federal Register on August 1, 1990 (55 FR 31179) provided the authority for CHAMPUS payment of services rendered by physician assistants (PA) and included a reference to a paragraph elsewhere in this part. Subsequent actions re-designated that paragraph. This action provides the correct designation of the paragraph being referenced.

List of Subjects in 32 CFR Part 199

Claims, Handicapped, Health insurance, Military personnel.

Accordingly, 32 CFR part 199 is amended as follows:

PART 199—[AMENDED]

1. The authority citation for part 199 continues to read as follows:

Authority: 5 U.S.C. 301; 10 U.S.C. chapter 55.

2. Section 199.6(c)(3)(iii)(H) is amended by revising “199.14(g)(1)(iii)” to read “199.14(j)(1)(ix)”.

3. Paragraph 199.14(j) is amended by revising “provers” to read “providers”.

Dated: November 5, 2007.
L.M. Bynum,
Alternate OSD Federal Register Liaison Officer, Department of Defense.

[FR Doc. 07-5624 Filed 11-13-07; 8:45 am]

BILLING CODE 5001-06-M